DEPARTMENT OF AGRICULTURE

Commodity Credit Corporation

Foreign Agricultural Service

Notice of Request for Extension of Currently Approved Information Collection

AGENCY: Foreign Agricultural Service and Commodity Credit Corporation, USDA.

ACTION: Notice and request for comments.

SUMMARY: In accordance with the Paperwork Reduction Act of 1995, this notice announces the Commodity Credit Corporation's (CCC) intention to request an extension from the Office of Management and Budget (OMB) for a currently approved information collection process in support of the Technical Assistance for Specialty Crops (TASC) program.

DATES: Comments on this notice must be received by February 25, 2019 to be assured of consideration.

ADDRESSES: You may send comments, identified by Document Number, by any of the following methods:

• Federal eRulemaking Portal: http://www.regulations.gov. Follow the instructions for sending comments.

• Email: Podadmin@fas.usda.gov. Include document number in the subject line of the message.

• Fax: 202-720-9361.

• Mail: 1400 Independence Avenue SW, Room 6512, Washington, DC 20250.

Instructions: All submissions received must include the agency names and document number for this notice. All comments received will be posted without change to regulations.gov, including any personal information provided.

FOR FURTHER INFORMATION CONTACT: Curt Alt, 202 720-4327, Podadmin@fas.usda.gov.

SUPPLEMENTARY INFORMATION: Title: Technical Assistance for Specialty Crops.

OMB Number: 0551-0038.

Expiration Date of Approval: February 28, 2019.

Type of Request: Extension of a currently approved information collection.

Abstract: This information is needed to administer CCC's Technical Assistance for Specialty Crops program. The information will be gathered from applicants desiring to receive grants under the program to determine the viability of the request for funds. Regulations governing the program appear at 7 CFR part 1487 and are available on the Foreign Agricultural Service's website.

Estimate of Burden: This program is currently suspended pending the passage of a new Farm Bill. However, in case the program is re-authorized by Congress in the future, the agency intends to keep the OMB control number for this program active. Assuming the program is re-authorized in substantially its current form, the agency estimates that the public reporting burden for the associated collection of information would average 32 hours per respondent.

Respondents: U.S. government agencies, State government agencies, non-profit trade associations, universities, agricultural cooperatives, and private companies.

Estimated Number of Respondents: 50.

Estimated Time per Respondent: 32.

Estimated Total Annual Burden on Respondents: 1,600 hours.

Copies of this information collection can be obtained from Connie Ehrhart, the Agency Information Collection Coordinator, at (202) 690-1578.

Request for Comments: Send comments regarding the accuracy of the burden estimate, ways to minimize the burden, including through the use of automated collection techniques or other forms of information technology, or any other aspect of this collection of information, to: Director, Program Operations Division, Foreign Agricultural Service, Room 6512, 1400 Independence Avenue SW, Washington, DC 20250. Facsimile submissions may be sent to (202) 720-9361 and electronic mail submissions should be addressed to: podadmin@fas.usda.gov.

All responses to this notice will be summarized and included in the request for OMB approval. All comments will also become a matter of public record.

Dated: December 18, 2018.
Robert Stephenson,
Executive Vice President, Commodity Credit Corporation.
Dated: December 17, 2018.
Kenneth Isley,
Administrator, Foreign Agricultural Service.

[FR Doc. 2018-28048 Filed 12-26-18; 8:45 am]

BILLING CODE 3410-10-P